DEPARTMENT OF COMMERCE

National Telecommunications and Information Administration

Internet Protocol Version 6 (IPv6) Workshop: The Impact of the Uptake and Deployment of IPv6 Addresses for Industry, the U.S. Government, and the Internet Economy

AGENCY: National Telecommunications and Information Administration, U.S. Department of Commerce.

ACTION: Notice of public workshop.

SUMMARY: The National Telecommunications and Information Administration (NTIA), on behalf of the U.S. Department of Commerce (Department), will hold a workshop on September 28, 2010, on the importance of the adoption and deployment of Internet Protocol version six (IPv6) addresses for industry, the U.S. Government, and the Internet economy.

DATES: The workshop will be held on September 28, 2010, from 9 a.m. to 12:30 p.m., Eastern Daylight Time. Registration will start at 8:30 a.m.

ADDRESSES: The workshop will be held in the First Amendment Lounge of the National Press Club, 519 14th Street, NW., 13th Floor, Washington, DC. All of the major entrances to the National Press Club building are accessible to people with disabilities.

FOR FURTHER INFORMATION CONTACT: For further information regarding the workshop, contact Jane Coffin by e-mail at jcoffin@ntia.doc.gov or by phone at (202) 482-1087 or Manu Bhardwaj by e-mail at mbhardwaj@ntia.doc.gov or by phone at (202) 482-4985.

SUPPLEMENTARY INFORMATION: Recognizing the vital importance of the Internet to U.S. innovation, prosperity, education, and political and cultural life, NTIA has made it a top priority to ensure that the Internet remains open for innovation. For example, NTIA is part of a Department-wide Internet Policy Task Force which is identifying leading public policy and operational challenges in the Internet environment. NTIA, working with other U.S. Government agencies, is evaluating the adoption and deployment of Internet Protocol version six (IPv6) addresses for industry and government. A workshop will be held to discuss industry and U.S. Government perspectives. Speakers, panelists, and participants are likely to focus on what is being done to encourage utilization of these resources and to facilitate further public discussion on Internet Protocol version four (IPv4) address resource depletion, and the adoption and deployment of IPv6 addresses.

The agenda for the public workshop will be posted at least one week prior to the workshop on NTIA's Web site at http://www.ntia.doc.gov.

Aneesh Chopra, Chief Technology Officer of the United States, will moderate a panel of industry experts. Vivek Kundra, Chief Information Officer of the United States, will moderate a discussion among Federal agency representatives. NTIA Deputy Assistant Secretary, Anna M. Gomez, will deliver opening remarks, and NTIA Administrator and Assistant Secretary, Lawrence E. Strickling, will deliver closing remarks.

The workshop will be open to members of the public on a first-come, first-served basis. To pre-register for the meeting, please send a request by e-mail to Yvonne Neal-Barfield, y-nealbarfield@ntia.doc.gov, indicating your name and e-mail address.

The workshop will be accessible physically to people with disabilities. Individuals requiring accommodation services, such as sign-language interpretation or other ancillary aids, should communicate their needs by e-mail to Yvonne Neal-Barfield, y-nealbarfield@ntia.doc.gov, at least five (5) days prior to the workshop.

Attendees should arrive at least one-half hour prior to the start of the workshop and must present a valid passport or other photo identification upon arrival. Members of the public will have an opportunity to ask questions at the meeting.

Dated: September 13, 2010.
Lawrence E. Strickling,
Assistant Secretary for Communications and Information.

[FR Doc. 2010-23192 Filed 9-16-10; 8:45 am]

BILLING CODE 3510-60-P